FEDERAL COMMUNICATIONS COMMISSION

47 CFR Part 25

[IB Docket No. 00-248; FCC 05-62]

Satellite Licensing Procedures

AGENCY: Federal Communications Commission.

ACTION: Final rule.

SUMMARY: In this document, the Commission adopts revisions to its antenna gain pattern rules, and adopts new rules for Very Small Aperture Terminal (VSAT) networks and other networks using certain multiple access techniques.

DATES: Effective July 8, 2005, except for the amendments to §§ 25.134 and 25.212, which will take effect on September 30, 2005.

FOR FURTHER INFORMATION CONTACT: Steven Spaeth, Satellite Division, International Bureau, telephone (202) 418-1539 or via the Internet at steven.spaeth@fcc.gov.

SUPPLEMENTARY INFORMATION: This summary of the Commission's Sixth Report and Order, IB Docket No. 00-248, FCC 05-62, adopted March 10, 2005, and released on March 15, 2005. The complete text of this Sixth Report and Order is available for inspection and copying during normal business hours in the FCC Reference Center (Room), 445 12th Street, SW., Washington, DC 20554, and also may be purchased from the Commission's copy contractor, Best Copy and Printing, Inc., Portals II, 445 12th Street, SW., Room CY-B402, Washington, DC 20554. It is also available on the Commission's Web site at http://www.fcc.gov.

Paperwork Reduction Act Analysis: The actions taken in the Sixth Report and Order have been analyzed with respect to the Paperwork Reduction Act of 1995 (PRA), Pub. L. 104-13, and have been found not to impose any new or modified reporting requirements or burdens on the public.

Regulatory Flexibility Analysis: As required by the Regulatory Flexibility Act of 1980, as amended (RFA),¹ an Initial Regulatory Flexibility Analysis (IRFA) was incorporated in the Notice of Proposed Rule Making (Notice) and the Further Notice of Proposed Rulemaking (Further Notice) in IB Docket No. 00-248.² The Commission sought written public comment on the proposals in the Notice and Further Notice, including comment on the IRFA. This Final Regulatory Flexibility Analysis (FRFA) conforms to the RFA.³

¹ See 5 U.S.C. 603. The RFA, see 5 U.S.C. 601-612, has been amended by the Small Business Regulatory Enforcement Fairness Act of 1996 (SBREFA), Title II, 110 Stat. 857 (1996).

² 2000 Biennial Regulatory Review—Streamlining and Other Revisions of part 25 of the Commission's Rules Governing the Licensing of, and Spectrum Usage by, Satellite Network Earth Stations and Space Stations, Notice of Proposed Rulemaking, IB Docket No. 00-248, 15 FCC Rcd 25128 (2000) (Notice); 2000 Biennial Regulatory Review—Streamlining and Other Revisions of part 25 of the Commission's Rules Governing the Licensing of, and Spectrum Usage by, Satellite Network Earth Stations and Space Stations, Notice of Proposed Rulemaking, IB Docket No. 00-248, 17 FCC Rcd 18585 (2002) (Further Notice).

³ See 5 U.S.C. 604.

A. Need for, and Objectives of, the Report and Order

The Telecommunications Act of 1996 requires the Commission in every even-numbered year beginning in 1998 to review all regulations that apply to the operations or activities of any provider of telecommunications service and to determine whether any such regulation is no longer necessary in the public interest due to meaningful economic competition. Our objective is to repeal or modify any rules in part 25 that are no longer necessary in the public interest, as required by section 11 of the Communications Act of 1934, as amended.

Specifically, in this Sixth Report and Order, the Commission increases the starting point for the earth station antenna gain pattern envelope, from 1.0° to 1.5° off-axis in the C-band, and from 1.25° to 1.5° off-axis in the Ku-band. This will allow the Commission to increase the number of earth station applications eligible for routine treatment. The Commission also adopts new rules to clarify the requirements for very small aperture terminal (VSAT) networks using reservation protocols.

B. Summary of Significant Issues Raised by Public Comments In Response to the IRFA

No comments were submitted directly in response to the IRFAs in either the Notice or the Further Notice.

C. Description and Estimate of the Number of Small Entities to Which Rules Will Apply

The RFA directs agencies to provide a description of, and, where feasible, an estimate of, the number of small entities that may be affected by the rules adopted herein.⁴ The RFA generally defines the term “small entity “ as having the same meaning as the terms “small business,” “small organization,” and “small governmental jurisdiction.” ⁵ In addition, the term “small business” has the same meaning as the term “small business concern” under the Small Business Act.⁶ A small business concern is one which: (1) Is independently owned and operated; (2) is not dominant in its field of operation; and (3) satisfies any additional criteria established by the Small Business Administration (SBA).⁷

⁴ 5 U.S.C. 604(a)(3).

⁵ 5 U.S.C. 601(6).

⁶ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁷ Small Business Act, 15 U.S.C. 632 (1996).

1. Cable Services. The SBA has developed a small business size standard for Cable and Other Program Distribution, which consists of all such firms having $12.5 million or less in annual receipts.⁸ According to Census Bureau data for 1997, in this category there was a total of 1,311 firms that operated for the entire year.⁹ Of this total, 1,180 firms had annual receipts of under $10 million, and an additional fifty-two firms had receipts of $10 million to $24,999,999.¹⁰ Thus, under this size standard, the majority of firms can be considered small.

⁸ 13 CFR 121.201, NAICS code 517510.

⁹ U.S. Census Bureau, 1997 Economic Census, Subject Series: Information, “Establishment and Firm Size (Including Legal Form of Organization),” Table 4, NAICS code 513220 (issued October 2000).

¹⁰ Id.

The Commission has developed its own small business size standard for a small cable operator for the purposes of rate regulation. Under the Commission's rules, a “small cable company” is one serving fewer than 400,000 subscribers nationwide.¹¹ Based on our most recent information, we estimate that there were 1,439 cable operators that qualified as small cable companies at the end of 1995.¹² Since then, some of those companies may have grown to serve over 400,000 subscribers, and others may have been involved in transactions that caused them to be combined with other cable operators. Consequently, we estimate that there are fewer than 1,439 small cable companies that may be affected by the proposed rules.

¹¹ 47 CFR 76.901(e). The Commission developed this definition based on its determinations that a small cable company is one with annual revenues of $100 million or less. See Implementation of Sections of the Cable Television Consumer Protection and Competition Act of 1992: Rate Regulation, MM Docket Nos. 92-266 and 93-215, Sixth Report and Order and Eleventh Order on Reconsideration, 10 FCC Rcd 7393, 7408-7409 ¶¶ 28-30 (1995).

¹² Paul Kagan Assocs., Inc., Cable TV Investor, Feb. 29, 1996 (based on figures for Dec. 30, 1995).

The Communications Act of 1934, as amended, also contains a size standard for a “small cable operator,” which is “a cable operator that, directly or through an affiliate, serves in the aggregate fewer than one percent of all subscribers in the United States and is not affiliated with any entity or entities whose gross annual revenues in the aggregate exceed $250,000,000.” ¹³ The Commission has determined that there are 67,700,000 subscribers in the United States.¹⁴ Therefore, an operator serving fewer than 677,000 subscribers shall be deemed a small operator, if its annual revenues, when combined with the total annual revenues of all of its affiliates, do not exceed $250 million in the aggregate.¹⁵ Based on available data, we estimate that the number of cable operators serving 677,000 subscribers or less totals approximately 1,450.¹⁶ We do not request or collect information on whether cable operators are affiliated with entities whose gross annual revenues exceed $250,000,000,¹⁷ and therefore are unable to estimate accurately the number of cable system operators that would qualify as small cable operators under the definition in the Communications Act.

¹³ 47 U.S.C. 543(m)(2).

¹⁴ See FCC Announces New Subscriber Count for the Definition of Small Cable Operator, Public Notice, 16 FCC Rcd 2225 (2001).

¹⁵ 47 CFR 76.1403(b).

¹⁶ See FCC Announces New Subscriber Count for the Definition of Small Cable Operator, Public Notice, 16 FCC Rcd 2225 (2001).

¹⁷ We do receive such information on a case-by-case basis only if a cable operator appeals a local franchise authority's finding that the operator does not qualify as a small cable operator pursuant to section 76.901(f) of the Commission's rules. See 47 CFR 76.990(b).

2. Satellite Telecommunications. The rules proposed in this Further Notice would affect providers of satellite telecommunications services, if adopted. Satellite telecommunications service providers include satellite operators and earth station operators. The Commission has not developed a definition of small entities applicable to satellite operators. Therefore, the applicable definition of small entity is generally the definition under the SBA rules applicable to Satellite Telecommunications.¹⁸ This definition provides that a small entity is expressed as one with $12.5 million or less in annual receipts.¹⁹ 1997 Census Bureau data indicate that, for 1997, 273 satellite communication firms had annual receipts of under $10 million. In addition, 24 firms had receipts for that year of $10 million to $24,999,990.²⁰

¹⁸ “This industry comprises establishments primarily engaged in providing point-to-point telecommunications services to other establishments in the telecommunications and broadcasting industries by forwarding and receiving communications signals via a system of satellites or reselling satellite telecommunications.” Small Business Administration, NAICS code 517310.

¹⁹ 13 CFR 120.121, NAICS code 517310.

²⁰ U.S. Census Bureau, 1997 Economic Census, Subject Service: Information, “Establishment and Firm Size,” Table 4, NAICS 513340 (Issued Oct. 2000).

3. Auxiliary, Special Broadcast and other program distribution services. This service involves a variety of transmitters, generally used to relay broadcast programming to the public (through translator and booster stations) or within the program distribution chain (from a remote news gathering unit back to the station). The Commission has not developed a definition of small entities applicable to broadcast auxiliary licensees. Therefore, the applicable definition of small entity is the definition under the Small Business Administration (SBA) rules applicable to radio broadcasting stations,²¹ and television broadcasting stations.²² These definitions provide that a small entity is one with either $6.0 million or less in annual receipts for a radio broadcasting station or $12.0 million in annual receipts for a TV station.²³ There are currently 3,237 FM translators and boosters, 4913 TV translators.²⁴ The FCC does not collect financial information on any broadcast facility and the Department of Commerce does not collect financial information on these auxiliary broadcast facilities. We believe, however, that most, if not all, of these auxiliary facilities could be classified as small businesses by themselves. We also recognize that most translators and boosters are owned by a parent station which, in some cases, would be covered by the revenue definition of small business entity discussed above. These stations would likely have annual revenues that exceed the SBA maximum to be designated as a small business (as noted, either $6.0 million for a radio station or $12.0 million for a TV station). Furthermore, they do not meet the Small Business Act's definition of a “small business concern” because they are not independently owned and operated.

²¹ 13 CFR 121.201, NAICS code 515112.

²² 13 CFR 121.201, NAICS code 515120.

²³ 13 CFR 121.201.

²⁴ FCC News Release, Broadcast Station Totals as of September 30, 1999, No. 71831 (Jan. 21, 1999).

4. Microwave Services. Microwave services include common carrier,²⁵ private-operational fixed,²⁶ and broadcast auxiliary radio services.²⁷ At present, there are approximately 22,015 common carrier fixed licensees and 61,670 private operational-fixed licensees and broadcast auxiliary radio licensees in the microwave services. The Commission has not yet defined a small business with respect to microwave services. For purposes of this FRFA, we will use the SBA's definition applicable to cellular and other wireless communications companies—i.e., an entity with no more than 1,500 persons.²⁸ We estimate that all of the Fixed Microwave licensees (excluding broadcast auxiliary licensees) would qualify as small entities under the SBA definition for radiotelephone (wireless) companies.

²⁵ See 47 CFR part 101 et seq. (formerly, part 21 of the Commission's Rules).

²⁶ Persons eligible under parts 80 and 90 of the Commission's rules can use Private Operational-Fixed Microwave services. See 47 CFR parts 80 and 90. Stations in this service are called operational-fixed to distinguish them from common carrier and public fixed stations. Only the licensee may use the operational-fixed station, and only for communications related to the licensee's commercial, industrial, or safety operations.

²⁷ Auxiliary Microwave Service is governed by part 74 of Title 47 of the Commission's Rules. See 47 CFR part 74 et seq. Available to licensees of broadcast stations and to broadcast and cable network entities, broadcast auxiliary microwave stations are used for relaying broadcast television signals from the studio to the transmitter, or between two points such as a main studio and an auxiliary studio. The service also includes mobile TV pickups, which relay signals from a remote location back to the studio.

²⁸ See 13 CFR 121.201, NAICS code 517212.

D. Description of Projected Reporting, Recordkeeping, and Other Compliance Requirements

None of the rules adopted in this Sixth Report and Order will affect small businesses differently from other non-routine earth station applicants. The revisions to the earth station antenna gain pattern envelope will make it easier for all earth station operators, including small businesses, to comply with the rule. The revisions to the VSAT rules do not create any new reporting or recordkeeping requirements.

E. Steps Taken To Minimize Significant Economic Impact on Small Entities, and Significant Alternatives Considered

The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.²⁹

²⁹ 5 U.S.C. 603(c)(1)-(c)(4).

This Sixth Report and Order adopts revisions to the earth station antenna gain pattern envelope that will increase the number of earth station applications that can be treated routinely, thereby enabling the Commission to act on those earth station applications more quickly. The Commission specifically considered and rejected an alternative proposal to such earth station operators to include in their applications a complex technical demonstration that their earth stations will comply with a new regulatory standard called the “minimum acceptable pointing error.” Requiring these technical demonstrations would have increased the burdens placed on these earth station operators, including those that are small entities. Thus, rejection of that proposal benefits these earth station applicants, including small entities.

F. Report to Congress

The Commission will send a copy of the Sixth Report and Order, including this FRFA, in a report to be sent to Congress pursuant to the Congressional Review Act, see 5 U.S.C. 801(a)(1)(A). In addition, the Commission will send a copy of the Sixth Report and Order, including FRFA, to the Chief Counsel for Advocacy of the Small Business Administration. A copy of the Sixth Report and Order and FRFA (or summaries thereof) will also be published in the Federal Register. See 5 U.S.C. 604(b).

Summary of Report and Order: The Commission has decided to begin the antenna gain pattern envelope at 1.5° off-axis within the GSO orbital arc for C-band and Ku-band earth stations, and 3.0° off-axis outside the GSO orbital arc for Ku-band earth stations. It also decided that the provisions proposed in the Further Notice to help reduce pointing error are not needed, but instead requires VSAT network operators to design their networks to stop transmissions when synchronization fails. Finally, the Commission increased the Commission's backlobe requirements to 0 dBi for off-axis angles greater than 85°, for earth stations operating in the Ku-band or portions of the Ka-band that are not shared with other services.

Except for the new synchronization requirement, these requirements will not take effect until after resolution of the off-axis EIRP issues discussed in the Third Further Notice in this proceeding. In the event that the Commission adopts off-axis EIRP envelopes for FSS earth stations, it will base those envelopes on the revised antenna gain pattern requirements adopted in this Order. In the event that the Commission decides not to adopt off-axis EIRP envelopes for FSS earth stations, parties are invited to propose new minimum routine antenna sizes based on these revised antenna gain pattern requirements. Such proposals should be supported by an adequate technical analyses. In particular, parties are requested to explain the method or methods they use to replicate or estimate the antenna gain patterns generated by earth station antennas of different sizes.

In this Sixth Report and Order, the Commission also adopts rules to govern Ku-band and C-band VSAT systems using time division multiple access (TDMA), frequency division multiple access (FDMA) and code division multiple access (CDMA). The new rules do not require any adjustment to the power levels of VSAT systems using TDMA or FDMA, but require a power decrease for VSAT systems using CDMA. The required power decrease is based on the number of simultaneously transmitting earth stations. These requirements will also apply to Single Channel per Carrier (SCPC) transmissions. VSAT networks licensed before the adoption date of this Sixth Report and Order will not be subject to the new rules.

Ordering Clauses

Accordingly, it is ordered, pursuant to sections 4(i), 7(a), 303(c), 303(f), 303(g), and 303(r) of the Communications Act of 1934, as amended, 47 U.S.C. 154(i), 157(a), 303(c), 303(f), 303(g), 303(r), that this Sixth Report and Order in IB Docket No. 00-248 is hereby adopted.

It is further ordered that part 25 of the Commission's rules is amended as set forth in Appendix B. An announcement of the effective date of these rule revisions will be published in the Federal Register.

It is further ordered that the Consumer and Governmental Affairs Bureau, Reference Information Center, shall send a copy of this Order, including the Final Regulatory Flexibility Certification, to the Chief Counsel for Advocacy of the Small Business Administration.

List of Subjects in 47 CFR Part 25

Communications common carriers, Communications equipment, Equal employment opportunity, Radio, Reporting and recordkeeping requirements, Satellites, Securities, Telecommunications.

Federal Communications Commission.
Marlene H. Dortch,
Secretary.

For the reasons discussed in the preamble, the Federal Communications Commission amends 47 CFR part 25 as follows:

PART 25—SATELLITE COMMUNICATIONS

1. The authority citation for part 25 continues to read as follows:

Authority: 47 U.S.C. 701-744. Interprets or applies sections 4, 301, 302, 303, 307, 309, and 332 of the Communications Act, as amended, 47 U.S.C. Sections 154, 301, 302, 303, 307, 309, and 332, unless otherwise noted.

2. Amend § 25.134 by revising paragraph (a)(1) and adding paragraphs (g) and (h), to read as follows:

§ 25.134 Licensing provisions of Very Small Aperture Terminal (VSAT) and C-band Small Aperture Terminal (CSAT) networks.

(a)(1) VSAT networks operating in the 12/14 GHz bands. All applications for digital VSAT networks granted on or before September 15, 2005, with a maximum outbound downlink EIRP density of +10.0 dBW/4 kHz per carrier and earth station antennas with maximum input power density of -14 dBW/4 kHz will be processed routinely. All applications for analog VSAT networks with maximum outbound downlink power densities of +17.0 dBW/4 kHz per carrier and maximum antenna input power densities of -8.0 dBW/4 kHz shall be processed routinely in accordance with Declaratory Order in the Matter of Routine Licensing of Earth Stations in the 6 GHz and 14 GHz Bands Using Antennas Less than 9 Meters and 5 Meters in Diameter, Respectively, for Both Full Transponder and Narrowband Transmissions, 2 FCC Rcd 2149 (1987) (Declaratory Order).

* * * * *

(g) Starting March 10, 2005, all applications for VSAT service in the 12/14 GHz band that meet the following requirements will be routinely processed: (1) The maximum transmitter power spectral density of a digital modulated carrier into any GSO FSS earth station antenna shall not exceed −14.0 − 10log(N) dB(W/4 kHz). For a VSAT network using frequency division multiple access (FDMA) or time division multiple access (TDMA) technique, N is equal to one. For a VSAT network using code division multiple access (CDMA) technique, N is the maximum number of co-frequency simultaneously transmitting earth stations in the same satellite receiving beam.

(2) The maximum GSO FSS satellite EIRP spectral density of the digital modulated emission shall not exceed 10 dB (W/4kHz) for all methods of modulation and accessing techniques.

(3) The maximum transmitter power spectral density of an analog carrier into any GSO FSS earth station antenna shall not exceed −8.0 dB(W/4kHz) and the maximum GSO FSS satellite EIRP spectral density shall not exceed +17.0 dB(W/4kHz).

(h) VSAT operators licensed pursuant to this section are prohibited from using remote earth stations in their networks that are not designed to stop transmissions from their remote earth stations when synchronization with the target satellite fails.

3. In § 25.212, revise paragraph (d) to read as follows:

§ 25.212 Narrowband analog transmissions, digital transmissions, and video transmissions in the GSO Fixed-Satellite Service.

* * * * *

(d)(1) For earth stations licensed before March 10, 2005 in the 5925-6425 MHz band, an earth station with an equivalent diameter of 4.5 meters or greater may be routinely licensed for transmission of SCPC services if the maximum power densities into the antenna do not exceed +0.5 dBW/4 kHz for analog SCPC carriers with bandwidths up to 200 kHz, and do not exceed −2.7 dBW/4 kHz for narrow and/or wideband digital SCPC carriers.

(2) For earth stations licensed after March 10, 2005 in the 5925-6425 MHz band, an earth station with an equivalent diameter of 4.5 meters or greater may be routinely licensed for transmission of SCPC services if the maximum power densities into the antenna do not exceed +0.5 dBW/4 kHz for analog SCPC carriers with bandwidths up to 200 kHz, and do not exceed −2.7 − 10log(N) dBW/4 kHz for narrow and/or wideband digital SCPC carriers. For digital SCPC using frequency division multiple access (FDMA) or time division multiple access (TDMA) technique, N is equal to one. For digital SCPC using code division multiple access (CDMA) technique, N is the maximum number of co-frequency simultaneously transmitting earth stations in the same satellite receiving beam.

(3) Antennas with an equivalent diameter smaller than 4.5 meters in the 5925-6425 MHz band are subject to the provisions of § 25.220 of this chapter, which may include power reduction requirements.

* * * * *

4. In § 25.221, revise paragraphs (a)(1), (a)(2), and (a)(4) to read as follows:

§ 25.221 Blanket Licensing provisions for Earth Stations on Vessels (ESV) receiving in the 3700-4200 MHz (space-to-Earth) frequency band and transmitting in the 5925-6425 MHz (Earth-to-space) frequency band, operating with Geostationary Satellites in the Fixed-Satellite Service.

(a) * * *

(1) The off-axis EIRP spectral density for co-polarized signals, emitted from the ESV, in the plane of the geostationary satellite orbit as it appears at the particular earth station location (i.e., the plane determined by the focal point of the antenna and the line tangent to the arc of the geostationary satellite orbit at the position of the target satellite), shall not exceed the following values:

26.3 − 25log(θ) − 10log(N) dBW/4kHz for 1.0° ≤ θ ≤ 7.0°

5.3 − 10log(N)dBW/4kHz for 7.0° < θ ≤ 9.2°

29.3 − 25log(θ) − 10log(N) dBW/4kHz for 9.2° < θ ≤ 48°

−12.7 − 10log(N) dBW/4kHz for 48° < θ ≤ 180°

where θ is the angle in degrees from the axis of the main lobe. For an ESV network using frequency division multiple access (FDMA) or time division multiple access (TDMA) technique, N is equal to one. For an ESV network using code division multiple access (CDMA) technique, N is the maximum number of co-frequency simultaneously transmitting earth stations in the same satellite receiving beam.

(2) In all other directions, the off-axis EIRP spectral density for co-polarized signals emitted from the ESV shall not exceed the following values:

29.3 − 25log(θ) − 10log(N) dBW/4kHz for 1.0° ≤ θ ≤ 48°

−12.7 − 10log(N) dBW/4kHz for 48° < θ ≤ 180°

where θ and N are defined as set forth in paragraph (a)(1) of this section.

* * * * *

(4) In all directions, the off-axis EIRP spectral density for cross-polarized signals emitted from the ESV shall not exceed the following values:

16.3 − 25log(θ) − 10log(N) dBW/4kHz for 1.8° ≤ θ ≤ 7.0°

−4.7 − 10log(N) dBW/4kHz for 7.0° < θ ≤ 9.2°

where θ and N are defined as set forth in paragraph (a)(1) of this section.

* * * * *

5. In § 25.222, revise paragraphs (a)(1), (a)(2), and (a)(4) to read as follows:

§ 25.222 Blanket Licensing provisions for Earth Stations on Vessels (ESVs) receiving in the 10.95-11.2 GHz (space-to-Earth), 11.45-11.7 GHz (space-to-Earth), 11.7-12.2 GHz (space-to-Earth) frequency bands and transmitting in the 14.0-14.5 GHz (Earth-to-space) frequency band, operating with Geostationary Satellites in the Fixed-Satellite Service.

(a) * * *

(1) The off-axis EIRP spectral density for co-polarized signals, emitted from the ESV in the plane of the geostationary satellite orbit as it appears at the particular earth station location (i.e., the plane determined by the focal point of the antenna and the line tangent to the arc of the geostationary satellite orbit at the position of the target satellite), shall not exceed the following values:

15 − 25log(θ) − 10log(N) dBW/4kHz for 1.25° ≤ θ ≤ 7.0°

−6 − 10 log(N) dBW/4kHz for 7.0° < θ ≤ 9.2°

18 − 25log(θ) − 10log(N) dBW/4kHz for 9.2° < θ ≤ 48°

−24 − 10log(N) dBW/4kHz for 48° < θ ≤ 180°

where θ is the angle in degrees from the axis of the main lobe. For an ESV network using frequency division multiple access (FDMA) or time division multiple access (TDMA) technique, N is equal to one. For an ESV network using code division multiple access (CDMA) technique, N is the maximum number of co-frequency simultaneously transmitting earth stations in the same satellite receiving beam.

(2) In all other directions, the off-axis EIRP spectral density for co-polarized signals emitted from the ESV shall not exceed the following values:

18 − 25log(θ) − 10log(N) dBW/4kHz for 1.25° ≤ θ ≤ 48°

−24 − 10log(N) dBW/4kHz for 48° < θ ≤ 180°

where θ and N are defined as set forth in paragraph (a)(1) of this section.

* * * * *

(4) In all directions, the off-axis EIRP spectral density for cross-polarized signals emitted from the ESV shall not exceed the following values:

5 − 25log(θ) − 10log(N) dBW/4kHz for 1.8° ≤ θ ≤ 7°

−16 − 10log(N) dBW/4kHz for 7° ≤ θ ≤ 9.2°

where θ and N are defined as set forth in paragraph (a)(1) of this section.

* * * * *

[FR Doc. 05-11171 Filed 6-7-05; 8:45 am]

BILLING CODE 6712-01-P